DEPARTMENT OF TRANSPORTATION

Federal Highway Administration

Notice of Final Federal Agency Actions on Proposed Highways in Texas

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, State Highway (SH) 360 from East Sublett Road/West Camp Wisdom Road to U.S. Highway 287 in the counties of Tarrant, Ellis, and Johnson in the State of Texas. Those actions grant licenses, permits, and approvals for the projects.

DATES: By this notice, the FHWA is advising the public of final agency actions subject to 23 U.S.C. 139(l)(1). A claim seeking judicial review of the Federal agency actions on the highway project will be barred unless the claim is filed on or before August 25, 2014. If the Federal law that authorizes judicial review of a claim provides a time period of less than 150 days for filing such claim, then that shorter time period still applies.

FOR FURTHER INFORMATION CONTACT: Salvador Deocampo, District Engineer, Texas Division, Federal Highway Administration, 300 E. 8th Street, Federal Building Room 826, Austin, Texas 78701, 8:00 a.m. to 5:00 p.m. Monday through Friday, 512-536-5950, salvador.deocampo@dot.gov. Mr. Carlos Swonke, Director Environmental Affairs Division, Texas Department of Transportation, 118 E. Riverside, Austin, Texas 78704; 512-416-2734; email: carlos.swonke@txdot.gov. Texas Department of Transportation normal business hours are 8:00 a.m. to 5:00 p.m. (central time) Monday through Friday.

SUPPLEMENTARY INFORMATION: Notice is hereby given that the FHWA and other Federal agencies have taken final agency actions by issuing licenses, permits, and approvals for the highway project in the State of Texas: State Highway (SH) 360 from East Sublett Road/West Camp Wisdom Road to U.S. Highway 287 in Tarrant, Ellis, and Johnson Counties. Project Reference Number: TxDOT CSJ: 2266-02-136. Project Type: The project will transition from the existing 4-lane (two mainlanes in each direction) roadway to an 8-lane (four mainlanes in each direction) divided tollway from 1,310 feet north of E. Sublett Road/W. Camp Wisdom Road to Debbie Lane/Ragland Road and then to a 6-lane (three mainlanes in each direction) divided tollway from Debbie Lane/Ragland Road to US 287. The project would also include improvements at the SH 360/US 287 interchange. Although the proposed project would be constructed primarily within the existing right of way (ROW), a total of approximately 6.0 acres of proposed ROW are needed to transition cross streets from the existing roadway width to the ultimate width at the SH 360 frontage roads. Project Length: Approximately nine and two tenth (9.2) miles. General Purpose: The purpose of the proposed project is to add mainlanes to the existing frontage road system in order to provide effective transportation while enhancing mobility within the rapidly developing SH 360 corridor for the growing population in southern Tarrant, northwest Ellis, and northeast Johnson counties. The actions by the Federal agencies on the project, and the laws under which such actions were taken, are described in the documented environmental assessment (EAs), issued in connection with the project and Finding Of No Significant Impact (FONSI) document obtained on January 16, 2014; and in other documents in the FHWA project record for the project. The EA, FONSI and other documents from the FHWA project record files for the listed project is available by contacting the FHWA or TxDOT at the addresses provided above and can be viewed and downloaded from the following Web site: http://www.txdot.gov/inside-txdot/projects/studies/fort-worth/sh-360.html.

This notice applies to all Federal agency decisions on the listed projects as of the issuance date of this notice and all laws under which such actions were taken, including but not limited to:

I. General: National Environmental Policy Act (NEPA) [42 U.S.C. 4321-4351]; Federal-Aid Highway Act (FAHA) [23 U.S.C. 109].

II. Air: Clean Air Act (CAA), 42 U.S.C. 7401-7671(q).

III. Land: Section 4(f) of the Department of Transportation Act of 1966 (4f) [49 U.S.C. 303]. Landscaping and Scenic Enhancement (Wildflowers), 23 U.S.C. 319.

IV. Wildlife: Endangered Species Act (ESA) [16 U.S.C. 1531-1544 and Section 1536], Migratory Bird Treaty Act (MBTA) [16 U.S.C. 703-712]. Fish and Wildlife Coordination Act [16 U.S.C. 661-667(d)].

V. Historic and Cultural Resources: Section 106 of the National Historic Preservation Act of 1966, as amended [16 U.S.C. 470(f) et seq.]; Archeological Resources Protection Act of 1977 (ARPA) [16 U.S.C. 470(aa)-IIJ; Archeological and Historic Preservation Act (AHPA) [16 U.S.C. 469-469(c)].

VI. Social and Economic: Civil Rights Act of 1964 (Civil Rights) [42 U.S.C. 2000(d)-2000(d)(1)].

VII. Wetlands and Water Resources: Clean Water Act, 33 U.S.C. 1251-1377 (Section 404, Section 401; Section 402, Section 319); Land and Water Conservation Fund (LWCF), 16 U.S.C. 4601-4604; Safe Drinking Water Act (SDWA), 42 U.S.C. 300(f)-300(j)(6); Rivers and Harbors Act of 1899 (RHA), 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

VIII. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

IX. Executive Orders: E.O. 11990 Protection of Wetlands; E.O. 11988 Floodplain Management; E.O. 11514 Protection and Enhancement of Environmental Quality; 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: March 21, 2014.
Salvador Deocampo,
District Engineer.

[FR Doc. 2014-06798 Filed 3-27-14; 8:45 am]

BILLING CODE 4910-22-P